NUCLEAR REGULATORY COMMISSION

10 CFR Part 72

[NRC-2019-0070]

RIN 3150-AK33

List of Approved Spent Fuel Storage Casks: NAC International NAC-UMS® Universal Storage System, Certificate of Compliance No. 1015, Amendment No. 7

AGENCY: Nuclear Regulatory Commission.

ACTION: Direct final rule; confirmation of effective date.

SUMMARY: The U.S. Nuclear Regulatory Commission (NRC) is confirming the effective date of July 29, 2019, for the direct final rule that was published in the Federal Register on May 15, 2019. This direct final rule amended the NRC's spent fuel storage regulations by revising the NAC International NAC-UMS® Universal Storage System listing within the “List of approved spent fuel storage casks,” to include Amendment No. 7 to Certificate of Compliance No. 1015. Amendment No. 7 revises the surveillance requirements for technical specifications A3.1.6.1 and A3.1.6.2 to ensure that adequate monitoring of the concrete cask heat removal system is performed. Amendment No. 7 also revises the basis for technical specification A3.1.6 to clarify that the surveillance requirements for technical specification A3.1.6 requires a minimum of two outlet air temperature measurements to provide an average outlet temperature.

DATES: The effective date of July 29, 2019, for the direct final rule published May 15, 2019 (84 FR 21687), is confirmed.

ADDRESSES: Please refer to Docket ID NRC-2019-0070 when contacting the NRC about the availability of information for this action. You may obtain publicly-available information related to this action by any of the following methods:

• Federal Rulemaking Website: Go to https://www.regulations.gov and search for Docket ID NRC-2019-0070. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The proposed amendment to the certificate, the proposed Appendices A and B to the technical specifications, and the preliminary safety evaluation report are available in ADAMS under Accession No. ML19057A264. The final amendment to the certificate, final changes to the technical specifications, and final safety evaluation report can also be viewed in ADAMS under Accession No. ML19183A268.

• NRC's PDR: You may examine and purchase copies of public documents at the NRC's PDR, Room O1-F21, One White Flint North, 11555 Rockville Pike, Rockville, Maryland 20852.

FOR FURTHER INFORMATION CONTACT: Bernard H. White, Office of Nuclear Material Safety and Safeguards; telephone: 301-415-6577; email: Bernard.White@nrc.gov or Victoria V. Huckabay, Office of Nuclear Material Safety and Safeguards; telephone: 301-415-5183; email: Victoria.Huckabay@nrc.gov. Both are staff of the U.S. Nuclear Regulatory Commission, Washington, DC 20555-0001.

SUPPLEMENTARY INFORMATION: On May 15, 2019 (84 FR 21687), the NRC published a direct final rule amending § 72.214 of title 10 of the Code of Federal Regulations, “List of approved spent fuel storage casks,” to include Amendment No. 7 to Certificate of Compliance No. 1015 for the NAC International NAC-UMS® Universal Storage System. Amendment No. 7 revises the surveillance requirements for technical specifications A3.1.6.1 and A3.1.6.2 to ensure that adequate monitoring of the concrete cask heat removal system is performed. Amendment No. 7 also revises the basis for technical specification A3.1.6 to clarify that the surveillance requirements for technical specification A3.1.6 requires a minimum of two outlet air temperature measurements to provide an average outlet temperature.

In the direct final rule, the NRC stated that if no significant adverse comments were received, the direct final rule would become effective on July 29, 2019. The NRC did not receive any comments on the direct final rule. Therefore, this direct final rule will become effective as scheduled.

Dated at Rockville, Maryland, this 16th day of July 2019.
For the Nuclear Regulatory Commission.
Cindy K. Bladey,
Chief, Regulatory Analysis and Rulemaking Support Branch, Division of Rulemaking, Office of Nuclear Material Safety and Safeguards.

[FR Doc. 2019-15398 Filed 7-18-19; 8:45 am]

BILLING CODE 7590-01-P